DEPARTMENT OF EDUCATION

Web-based Education Commission; Hearing and Meeting

AGENCY: Office of Postsecondary Education, Education.

ACTION: Notice of Hearing and Meeting.

SUMMARY: This notice announces the next hearing and meeting of the Web-based Education Commission. Notice of this meeting is required under Section 10(a)(2) of the Federal Advisory Committee Act. This document is intended to notify the general public of their opportunity to attend this hearing and meeting.

DATE: The hearing and meeting will be held on February 2, 2000, from 1-5 p.m. and February 3, 2000, from 9-12 p.m.

LOCATION: The hearing and meeting will be held in room 106 of the Dirksen Senate Office Building, Washington, DC 20510.

FOR FURTHER INFORMATION CONTACT: David S. Byer, Executive Director, Web-based Education Commission, U.S. Department of Education, 1990 K Street, NW, Washington, DC 20006-8533. Telephone: (202) 502-7561. Fax: (202) 502-7873. Email: david_Xbyer@ed.gov.

SUPPLEMENTARY INFORMATION: The Web-based Education Commission is authorized by Title VIII, Part J of the Higher Education Act Amendments of 1998, as amended by the Fiscal 2000 Appropriations Act for the Departments of Labor, Health, and Human Services, and Education, and Related Agencies. The Commission is required to conduct a thorough study to assess the critical pedagogical and policy issues affecting the creation and use of web-based and other technology-mediated content and learning strategies to transform and improve teaching and achievement at the K-12 and postsecondary education levels. The Commission must issue a final report to the President and the Congress, not later than 12 months after the first meeting of the commission, which occurred November 16-17, 1999. The final report will contain a detailed statement of the Commission's findings and conclusions, as well as recommendations.

The purpose of the February 2-3 hearing and meeting is to begin the Commission's investigation and approve a detailed mission and plan. On both February 2 and 3, the Commission will hear from government and public witnesses on the potential for web-based and other technology-mediated content to transform and improve teaching and learning at the K-12 and postsecondary education levels, as well as the regulatory and institutional barriers to this transformation. On February 3, the Commission will also meet to approve its mission and plan for the year.

The hearing and meeting are open to the general public. Records are kept of all Commission proceeding and are available for public inspection at the office of the Web-Based Education Commission, Room 8091, 1990 K Street, NW, Washington, DC 20006-8533 from the hours of 9 a.m. to 5:30 p.m. The meeting site is accessible to individuals with disabilities. An individual with a disability who will need an auxiliary aid or service to participate in the meeting (e.g., interpreting services, assisted listening device or materials in an alternate format) should notify the contact person listed in this notice at least two weeks before the scheduled meeting date. Although the Department will attempt to meet a request received after that date, the requested auxiliary aid or service may not be available because of insufficient time to arrange it.

Dated: January 13, 2000.
A. Lee Fritschler,
Assistant Secretary, Office of Postsecondary Education.

[FR Doc. 00-1455 Filed 1-20-00; 8:45 am]

BILLING CODE 4000-01-M